DEPARTMENT OF HEALTH AND HUMAN SERVICES

National Institutes of Health

National Institute of Mental Health; Notice of Meeting

Pursuant to section 10(a) of the Federal Advisory Committee Act, as amended (5 U.S.C. Appendix 2), notice is hereby given of a meeting of the Subcommittee for Planning the Annual Strategic Plan Updating Process of the Interagency Autism Coordinating Committee (IACC).

The purpose of the Subcommittee for Planning the Annual Strategic Plan Updating Process is to discuss a strategy for annually updating the IACC Strategic Plan for Autism Spectrum Disorder Research. The meeting will be open to the public with attendance limited to space available. Individuals who plan to attend and need special assistance, such as sign language interpretation or other reasonable accommodations, should notify the Contact Person listed below at least 7 days in advance of the meeting.

Name of Committee: Interagency Autism Coordinating Committee (IACC).

Type of Meeting: Subcommittee for Planning the Annual Strategic Plan Updating Process.

Date: March 17, 2009.

Time: 12 p.m. to 3 p.m. Eastern Time.

Agenda: To discuss a strategy for annually updating the Strategic Plan for Autism Spectrum Disorder Research.

Place:

In Person: The National Institutes of Health, 31 Center Drive, Building 31, C Wing, 6th Floor, Conference Room 10, 31 Center Drive, Bethesda, MD 20892.

Webinar: https://www1.gotomeeting.com/register/609274163. To Access the Conference Call: Dial: 888-455-2920, Access Code: 3857872.

Contact Person: Ms. Lina Perez, Office of Autism Research Coordination, Office of the Director, National Institute of Mental Health, NIH, 6001 Executive Boulevard, Room 8200, Bethesda, MD 20892-9669, 301-443-6040, IACCPublicInquiries@mail.nih.gov.

In the interest of security, NIH has instituted stringent procedures for entrance onto the NIH campus. All visitor vehicles, including taxicabs, hotel, and airport shuttles will be inspected before being allowed on campus. Visitors will be asked to show one form of identification (for example, a government-issued photo ID, driver's license, or passport) and to state the purpose of their visit.

Please Note

The meeting will be open to the public through a conference call phone number and a Web presentation tool on the Internet. Individuals who participate using these electronic services and who need special assistance, such as captioning of the conference call or other reasonable accommodations, should submit a request at least 7 days prior to the meeting.

Members of the public who participate using the conference call phone number will be able to listen to the meeting but will not be heard. There may be an opportunity for members of the public to submit written comments during the meeting through the Web presentation tool. Submitted comments will be reviewed after the meeting. If you experience any technical problems with the Web presentation tool, please contact GoToWebinar at (800) 263-6317.

To access the Web presentation tool on the Internet the following computer capabilities are required: (A) Internet Explorer 5.0 or later, Netscape Navigator 6.0 or later or Mozilla Firefox 1.0 or later; (B) Windows® 2000, XP Home, XP Pro, 2003 Server or Vista; (C) Stable 56k, cable modem, ISDN, DSL or better Internet connection; (D) Minimum of Pentium 400 with 256 MB of RAM (Recommended); (E) Java Virtual Machine enabled (Recommended).

This notice is being published less than 15 days prior to the meeting due to the scheduling limitations of the members.

Information about the IACC is available on the Web site: http://www.iacc.hhs.gov.

Dated: February 27, 2009.
Jennifer Spaeth,
Director, Office of Federal Advisory Committee Policy.

[FR Doc. E9-4846 Filed 3-6-09; 8:45 am]

BILLING CODE 4140-01-P